DEPARTMENT OF ENERGY

Federal Energy Regulatory Commission

Combined Notice of Filings #1

April 20, 2009.

Take notice that the Commission received the following electric corporate filings:

Docket Numbers: EC09-69-000.

Applicants: Solios Power LLC.

Description: Application for authorization for disposition of jurisdictional facilities and request for expedited and privileged treatment of Exhibit I re Solis Power LLC.

Filed Date: 04/16/2009.

Accession Number: 20090417-0086.

Comment Date: 5 p.m. Eastern Time on Thursday, May 7, 2009.

Take notice that the Commission received the following exempt wholesale generator filings:

Docket Numbers: EG09-36-000.

Applicants: Clean Energy Systems, Inc.

Description: Notice of Self. Certification of Clean Energy Systems, Inc. as an exempt Wholesale Generator.

Filed Date: 04/20/2009.

Accession Number: 20090420-5090.

Comment Date: 5 p.m. Eastern Time on Monday, May 11, 2009.

Take notice that the Commission received the following electric rate filings:

Docket Numbers: ER98-4159-017; ER99-845-017; ER07-157-007; ER06-399-011; ER06-398-011; ER04-268-014.

Applicants: Duquesne Light Company; Puget Sound Energy, Inc.; Macquarie Cook Power Inc.; Duquesne Conemaugh, LLC; Duquesne Keystone, LLC; Duquesne Power, L.P.

Description: Macquarie Cook Power, Inc et al submits notice of non-material change in status related to certain power purchase agreements, Second Revised Sheet 1 et al. to FERC Electric Rate Schedule 1.

Filed Date: 04/15/2009.

Accession Number: 20090416-0047.

Comment Date: 5 p.m. Eastern Time on Wednesday, May 6, 2009.

Docket Numbers: ER99-3168-009; ER04-657-010; ER04-659-010; ER04-660-010; ER04-994-005.

Applicants: Mystic Development, LLC, Fore River Development, LLC, Astoria Generating Company, LP, Boston Generating, LLC, Mystic I, LLC.

Description: Supplement to Notification of Change in Status of Astoria Generating Company, L.P., et al.

Filed Date: 04/17/2009.

Accession Number: 20090417-5049.

Comment Date: 5 p.m. Eastern Time on Friday, May 8, 2009.

Docket Numbers: ER06-615-045.

Applicants: California Independent System Operator Corporation.

Description: California Independent System Operator Corporation submits Attachment A—Interim Measure for Underscheduling in the Day-Ahead Market Compliance Filing.

Filed Date: 03/30/2009.

Accession Number: 20090403-0139.

Comment Date: 5 p.m. Eastern Time on Friday, April 24, 2009.

Docket Numbers: ER06-739-019; ER07-501-018; ER07-758-014; ER08-649-011; ER06-738-019; ER03-983-018; ER02-537-022.

Applicants: East Coast Power Linden Holding, LLC; Birchwood Power Partners, L.P.; Inland Empire Energy Center, L.L.C.; EFS Parlin Holdings LLC; Cogen Technologies Linden Venture, L.P.; Fox Energy Company, LLC; Shady Hills Power Company, L.L.C.

Description: Notification of Non-Material Change in Status of East Coast Power Linden Holding, LLC et al.

Filed Date: 04/17/2009.

Accession Number: 20090417-5181.

Comment Date: 5 p.m. Eastern Time on Friday, May 8, 2009.

Docket Numbers: ER07-146-002.

Applicants: Wabash Valley Energy Marketing, Inc.

Description: Wabash Valley Energy Marketing, Inc submits 2/2/09 Supplement to the 12/29/08 Updated Market Power Analysis.

Filed Date: 03/31/2009.

Accession Number: 20090413-0147.

Comment Date: 5 p.m. Eastern Time on Monday, June 01, 2009.

Docket Numbers: ER09-60-002.

Applicants: Public Service Company of New Mexico.

Description: Public Service Company of New Mexico submits First Revised Service Agreement 306 to FERC Electric Tariff, Second Revised Volume 6.

Filed Date: 04/16/2009.

Accession Number: 20090417-0167.

Comment Date: 5 p.m. Eastern Time on Thursday, May 7, 2009.

Docket Numbers: ER09-429-001.

Applicants: Sheldon Energy LLC.

Description: Notification of Non-Material Change in Facts of Sheldon Energy LLC.

Filed Date: 04/17/2009.

Accession Number: 20090417-5072.

Comment Date: 5 p.m. Eastern Time on Friday, May 8, 2009.

Docket Numbers: ER09-621-002.

Applicants: TAQA Gen X LLC.

Description: TAQA Gen X, LLC submits revisions to its FERC Electric Tariff, Original Volume 1.

Filed Date: 03/02/2009.

Accession Number: 20090305-0007.

Comment Date: 5 p.m. Eastern Time on Friday, April 25, 2009.

Docket Numbers: ER09-703-001.

Applicants: Tampa Electric Company.

Description: Tampa Electric Company submits Substitute First Revised Sheet 145 et al. to FERC Electric Tariff, Third Revised Volume 4 in compliance with the Commission's 4/2/09 Order.

Filed Date: 04/16/2009.

Accession Number: 20090416-0048.

Comment Date: 5 p.m. Eastern Time on Thursday, May 7, 2009.

Docket Numbers: ER09-779-002.

Applicants: Nordic Energy Services, LLC.

Description: Nordic Energy Services, LLC submits Second Substitute Sheet 1 of FERC Electric Tariff, Original Volume 1.

Filed Date: 04/16/2009.

Accession Number: 20090417-0170.

Comment Date: 5 p.m. Eastern Time on Thursday, May 7, 2009.

Docket Numbers: ER09-805-001.

Applicants: Quntum Energy, LLC.

Description: Quntum Energy, LLC submits an amended file and six amended copies of the Petition for Acceptance of Initial Tariff, Waivers and Blanket Authority.

Filed Date: 04/17/2009.

Accession Number: 20090420-0153.

Comment Date: 5 p.m. Eastern Time on Friday, May 8, 2009.

Docket Numbers: ER09-829-001.

Applicants: Southern California Edison Company.

Description: Southern California Edison Company submits First Revised Sheet 20 et al to FERC Electric Tariff, Second Revised Volume 6, effective 5/9/09.

Filed Date: 04/16/2009.

Accession Number: 20090417-0168.

Comment Date: 5 p.m. Eastern Time on Thursday, April 30, 2009.

Docket Numbers: ER09-874-000.

Applicants: Discount Power, Inc.

Description: Discount Power, Inc submits Petition for Acceptance of Initial Tariff, Waivers and Blanket Authority, FERC Electric Tariff, Original Volume 1, under which it will engage in wholesale sales of electric energy etc.

Filed Date: 04/16/2009.

Accession Number: 20090416-0052.

Comment Date: 5 p.m. Eastern Time on Thursday, May 7, 2009.

Docket Numbers: ER09-880-001.

Applicants: Northeast Utilities Service Company.

Description: Connecticut Light and Power Company et al. (NU Companies) submits Substitute Original Sheet 1 et al. to FERC Electric Tariff, Original Volume 6.

Filed Date: 04/15/2009.

Accession Number: 20090416-0046.

Comment Date: 5 p.m. Eastern Time on Wednesday, May 6, 2009.

Docket Numbers: ER09-934-001.

Applicants: Bangor Hydro-Electric Company.

Description: Bangor Hydro-Electric Company submits corrected Second Revised Sheet 1737 et al. to FERC Electric Tariff 3, Section II—Open Access Transmission Tariff Schedule 21 to ISO New England.

Filed Date: 04/17/2009.

Accession Number: 20090417-0085.

Comment Date: 5 p.m. Eastern Time on Friday, May 8, 2009.

Docket Numbers: ER09-946-001.

Applicants: Beech Ridge Energy LLC.

Description: Beech Ridge Energy LLC submits supplement to the market-based rate application it made on 4/2/09.

Filed Date: 04/17/2009.

Accession Number: 20090420-0152.

Comment Date: 5 p.m. Eastern Time on Monday, April 27, 2009.

Docket Numbers: ER09-987-001.

Applicants: Idaho Power Company.

Description: Idaho Power Company submits First Revised Sheet 18A et al. to First Revised Electric Rate Schedule FERC 87.

Filed Date: 04/17/2009.

Accession Number: 20090417-0171.

Comment Date: 5 p.m. Eastern Time on Friday, May 8, 2009.

Docket Numbers: ER09-993-000.

Applicants: Lake Cogen, Ltd.

Description: Application of Lake Cogen, LTD for market-based rate authority, associated waivers, blanket approvals and notification of price reporting status.

Filed Date: 04/16/2009.

Accession Number: 20090417-0173.

Comment Date: 5 p.m. Eastern Time on Thursday, May 7, 2009.

Docket Numbers: ER09-997-000

Applicants: Westar Energy, Inc.

Description: Westar Energy, Inc. submits the Balancing Area Services Agreement with the City of Independence, Missouri, designated as Rate Schedule FERC 316, effective 5/1/09.

Filed Date: 04/16/2009.

Accession Number: 20090416-0004

Comment Date: 5 p.m. Eastern Time on Thursday, May 7, 2009

Docket Numbers: ER09-1001-000

Applicants: PacifiCorp

Description: PacifiCorp submits Notice of Termination for Service Agreement 468 under Seventh Revised Volume 11 OATT, and Engineering and Procurement Agreement with Iberdrola Renewables etc.

Filed Date: 04/15/2009.

Accession Number: 20090416-0041

Comment Date: 5 p.m. Eastern Time on Wednesday, May 6, 2009

Docket Numbers: ER09-1002-000.

Applicants: Midwest Independent Transmission System Operator, Inc.

Description: Midwest Independent Transmission System Operator, Inc. submits revisions to its Open Access Transmission, Energy and Operating Reserve Market Tariff etc.

Filed Date: 04/15/2009.

Accession Number: 20090416-0042.

Comment Date: 5 p.m. Eastern Time on Wednesday, May 6, 2009.

Docket Numbers: ER09-1003-000.

Applicants: ISO New England Inc.

Description: ISO New England Inc. and New England Power Pool submits further revisions to the Forward Capacity Market Rules etc.

Filed Date: 04/15/2009.

Accession Number: 20090416-0043.

Comment Date: 5 p.m. Eastern Time on Wednesday, May 6, 2009.

Docket Numbers: ER09-1004-000.

Applicants: Southwest Power Pool, Inc.

Description: Southwest Power Pool, Inc. submits an executed Agreement for Provisions of Transmission Service to Missouri Bundled Retail Load with Kansas City Power & Light Greater Missouri Operations Co etc.

Filed Date: 04/15/2009.

Accession Number: 20090416-0044.

Comment Date: 5 p.m. Eastern Time on Wednesday, May 6, 2009.

Docket Numbers: ER09-1005-000.

Applicants: KCP&L Greater Missouri Operations Company.

Description: KCP&L Greater Missouri Operations Company submits Notice of Termination for certain tariffs, rates, schedules and service agreements etc.

Filed Date: 04/15/2009.

Accession Number: 20090416-0045.

Comment Date: 5 p.m. Eastern Time on Wednesday, May 6, 2009.

Docket Numbers: ER09-1006-000.

Applicants: Florida Power & Light Company.

Description: Florida Power & Light Company submits for acceptance Original Sheet 1 et al. to FERC Electric Rate Schedule 317 to be effective 1/1/14.

Filed Date: 04/16/2009.

Accession Number: 20090417-0166.

Comment Date: 5 p.m. Eastern Time on Thursday, May 7, 2009.

Docket Numbers: ER09-1007-000.

Applicants: Westar Energy, Inc.

Description: Westar Energy, Inc. submits Original Sheet 1 et al. to FERC Rate Schedule 317 effective 6/15/09.

Filed Date: 04/16/2009.

Accession Number: 20090417-0172.

Comment Date: 5 p.m. Eastern Time on Thursday, May 7, 2009.

Docket Numbers: ER09-1008-000.

Applicants: Southwest Power Pool, Inc.

Description: Southwest Power Pool submits request for acceptance of Original Service Agreement 1766 to FERC Electric Tariff, Fifth Revised Volume 1.

Filed Date: 04/16/2009.

Accession Number: 20090417-0169.

Comment Date: 5 p.m. Eastern Time on Thursday, May 7, 2009.

Docket Numbers: ER09-1009-000.

Applicants: New York Independent System Operator, Inc.

Description: New York Independent System Operator, Inc. submits for acceptance Thirteenth Revised Sheet 1 et al. to FERC Electric Tariff, Original Volume 2.

Filed Date: 04/17/2009.

Accession Number: 20090420-0147.

Comment Date: 5 p.m. Eastern Time on Friday, May 8, 2009.

Docket Numbers: ER09-1010-000.

Applicants: New York Independent System Operator, Inc.

Description: New York Independent System Operator, Inc. submits revisions to Attachment W & K of its Open Access Transmission Tariff & its Market Administration and Control Area Services Tariff, Ninth Revised Sheet 8 et al.

Filed Date: 04/17/2009.

Accession Number: 20090420-0148.

Comment Date: 5 p.m. Eastern Time on Friday, May 8, 2009.

Docket Numbers: ER09-1011-000.

Applicants: Southwest Power Pool, Inc.

Description: Southwest Power Pool, Inc. submits an executed Service Agreement for Network Integration Transmission Service with City of Minden, Louisiana as Network Customer etc.

Filed Date: 04/17/2009.

Accession Number: 20090420-0149.

Comment Date: 5 p.m. Eastern Time on Friday, May 8, 2009.

Docket Numbers: ER09-1012-000.

Applicants: Southwest Power Pool, Inc.

Description: Southwest Power Pool, Inc. submits an unexecuted Service Agreement for Network Integration Transmission Service between SPP as Transmission Provider and American Electric Power Service Agent etc.

Filed Date: 04/17/2009.

Accession Number: 20090420-0151.

Comment Date: 5 p.m. Eastern Time on Friday, May 8, 2009.

Docket Numbers: ER09-1013-000.

Applicants: PacifiCorp.

Description: PacifiCorp submits for acceptance Original Sheet 29a et al. to First Revised Rate Schedule FERC 592.

Filed Date: 04/17/2009.

Accession Number: 20090420-0150.

Comment Date: 5 p.m. Eastern Time on Friday, May 8, 2009.

Docket Numbers: ER09-1014-000.

Applicants: Great Bay Power Marketing, Inc.

Description: Great Bay Power Marketing, Inc. submits proposed changes to First Revised Rate Schedule 16, Amended and Restated Power Agreement with Unitil Power Corp etc.

Filed Date: 04/17/2009.

Accession Number: 20090420-0154.

Comment Date: 5 p.m. Eastern Time on Friday, May 8, 2009.

Take notice that the Commission received the following electric securities filings:

Docket Numbers: ES09-25-000.

Applicants: Southwest Power Pool, Inc.

Description: Supplemental Filing of Southwest Power Pool, Inc.

Filed Date: 04/17/2009.

Accession Number: 20090417-5073.

Comment Date: 5 p.m. Eastern Time on Monday, April 27, 2009.

Take notice that the Commission received the following open access transmission tariff filings:

Docket Numbers: OA07-19-005; OA07-43-006.

Applicants: Arizona Public Service Company.

Description: Annual Compliance Report on Penalty Assessments and Distributions of Arizona Public Service Company.

Filed Date: 04/15/2009.

Accession Number: 20090415-5142.

Comment Date: 5 p.m. Eastern Time on Wednesday, May 6, 2009.

Docket Numbers: OA07-54-007.

Applicants: PacifiCorp.

Description: Annual Compliance Filing on Operational Penalties and Distributions of PacifiCorp.

Filed Date: 04/16/2009.

Accession Number: 20090416-5090.

Comment Date: 5 p.m. Eastern Time on Thursday, May 7, 2009.

Docket Numbers: OA08-97-002.

Applicants: MidAmerican Energy Company.

Description: Annual Informational Report on Penalty Assessments and Distributions of MidAmerican Energy Company.

Filed Date: 04/16/2009.

Accession Number: 20090416-5016.

Comment Date: 5 p.m. Eastern Time on Thursday, May 7, 2009.

Docket Numbers: OA08-100-002.

Applicants: Duke Energy Carolinas, LLC.

Description: Penalty Distribution Filing of Duke Energy Carolinas, LLC.

Filed Date: 04/17/2009.

Accession Number: 20090417-5180.

Comment Date: 5 p.m. Eastern Time on Friday, May 8, 2009.

Docket Numbers: OA08-126-001.

Applicants: Mid-Continent Area Power Pool.

Description: Annual Compliance Report of Penalty Assessments and Distributions of Mid-Continent Area Power Pool.

Filed Date: 04/20/2009.

Accession Number: 20090420-5077.

Comment Date: 5 p.m. Eastern Time on Monday, May 11, 2009.

Docket Numbers: OA09-26-000.

Applicants: New York Independent System Operator, Inc.

Description: Annual Compliance Report of the New York Independent System Operator, Inc., regarding Unreserved Use and Late Study Penalties.

Filed Date: 04/17/2009.

Accession Number: 20090417-5079.

Comment Date: 5 p.m. Eastern Time on Friday, May 8, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-9502 Filed 4-24-09; 8:45 am]

BILLING CODE 6717-01-P